ENVIRONMENTAL PROTECTION AGENCY

40 CFR Parts 85, 86, and 600

DEPARTMENT OF TRANSPORTATION

National Highway Traffic Safety Administration

49 CFR Parts 523, 531, 533, 536, and 537

[EPA-HQ-OAR-2010-0799; FRL-9706-5; NHTSA-2010-0131]

RIN 2060-AQ54; RIN 2127-AK79

2017 and Later Model Year Light-Duty Vehicle Greenhouse Gas Emissions and Corporate Average Fuel Economy Standards

Correction

In rule document 2012-21972 appearing on pages 62623-63200 in the issue of Monday, October 15, 2012, make the following correction:

§ 533.5 Requirements [Corrected]

1. On page 63195, Figure 4, an equation, is corrected to appear as set forth below:

[FR Doc. C1-2012-21972 Filed 11-14-12; 8:45 am]

BILLING CODE 1505-01-D